DEPARTMENT OF TRANSPORTATION

Federal Aviation Administration

Availability of Solicitation for Center of Excellence (COE) in General Aviation

AGENCY: Federal Aviation Administration (FAA), DOT.

ACTION: Notice of availability.

SUMMARY: The FAA is soliciting competitive proposals from academic institutions to form a General Aviation Center of Excellence (COE). A COE is that entity at a college or university designated as the principal focus for long-term research in selected areas of aviation technology. Centers of Excellence are designated through an evaluation and award procedure established pursuant to 49 U.S.C. 44513. The FAA will provide long-term funding to establish and operate the COE in support of general aviation. The grant recipient is required to match FAA funds with non-Federal funding over the term of the grant.

DATES: The closing date for submitting final proposals is November 1, 2000.

FOR FURTHER INFORMATION OR SOLICITATION PACKAGES CONTACT: Ms. Patricia Watts, Program Manager, FAA Centers of Excellence, AAR-400, Atlantic City International Airport, New Jersey, 08405, phone number (609) 485/5043, facsimile number (609) 485-4101, and e-mail patricia.watts@tc.faa.gov. Prior to final submission written questions may be submitted to the Program Manager, Center of Excellence. Answers will be distributed to all participants who request a solicitation package. Verbal questions are not acceptable.

SUPPLEMENTARY INFORMATION: The FAA intends to award a 50-50 cost share cooperative agreement to establish a Center of Excellence in General Aviation to a qualified college or university, or to a team of such institutions. The cooperative agreement will be awarded in 3-year increments up to a maximum of 10 years. It is the FAA's intent to fund a minimum of $300,000/year for the first three years. It is also the intent of the FAA to award a single-source indefinite delivery indefinite quantity (IDIQ) contract to the winner of the competition, under which orders may be placed for development products.

The FAA has identified a need for a Center of Excellence in General Aviation. The Center will conduct research, which includes the entire spectrum (i.e. basic research through engineering development, prototyping and testing) within the scope of General Aviation. This scope includes, but is not limited to, the following five functional areas:

1. Airport Technology;

2. Propulsion and Structures;

3. Aging Aircraft;

4. Flight Safety;

5. Fire Safety;

6. Training.

The FAA intends to provide long-term funding to establish and operate a prestigious partnership with academia, industry and government. To this end, the FAA encourages offerors to team with organizations that compliment their expertise from academia, industry, state/local government, and other governmental agencies. The successful offeror is required to match FAA grant funds with non-federal funding over the term of the cooperative agreement. Cost sharing (negotiated individually) shall also be required for any orders placed under the IDIQ contract.

Eligibility

Colleges and universities are eligible for cooperative agreements to establish a Center of Excellence in General Aviation. Individuals are not eligible for a COE designation and do not qualify for grants under this program. The FAA is seeking to ensure an equitable geographical distribution of funds and to encourage the inclusion of minority institutions.

Matching Funds Requirement

A Center of Excellence receives funding annually in the form of single or multiple continuing research grants over a three-year period. The federal government provides 50 percent of the costs of research. The institution must show a continuing source of non-Federal matching funds available for the remaining research. Once the COE is established, a fiscal report declaring the sources and amount of funding and expenditures must be submitted for review every 6 months to the COE program manager. A full review and grant closeout takes place at the conclusion of each three-year phase.

The Center of Excellence and the FAA shall agree upon the maximum expected costs in each fiscal year. Any cost incurred in excess of the maximum costs agreed upon with the agency shall be the sole obligation of the Center of Excellence.

The Center of Excellence is expected to account for all funds granted and matched, utilized to establish, operate, and conduct the specified research activities of the Center of Excellence.

Center Operations

The Center of Excellence shall maintain a close working relationship with the corresponding agency research program office. This relationship shall extend to participation in conference, meetings, joint research efforts, and submission of significant activity reports to the FAA on a routine basis. The COE shall prepare quarterly and semi-annual reports, and a fully inclusive annual report on research projects and fiscal expenditures, and shall host an on-site review of all research activities.

The FAA may require the COE to hold an annual joint symposium with the agency on topics relating to the status and results of the designated technology area. Researchers at the COE may serve as consultants by providing technical advice to the sponsoring agency program office. They may also be asked to participate on major planning and investigative committees related to general aviation.

Selection Criteria

The COE will be selected on the ability of the applicant to meet the following criteria mandated by 49 USC 44513:

• The extent to which the needs of the State in which the applicant is located are representative of the needs of the region for improved air transportation services and facilities.

• The demonstrated research and extension resources available to the applicant for carrying out the intent of the legislation.

• The capability of the applicant to provide leadership in making national and regional contributions to the solution of both long-range and immediate air transportation problems.

• The extent to which the applicant has an established air transportation program.

• The demonstrated ability of the applicant to disseminate results of air transportation research and educational programs through a statewide or region-wide continuing education program.

• The research projects that the applicant proposes to carry out under the grant.

Award Date

The FAA anticipates that the selection of the Center of Excellence in General Aviation will be completed during the first quarter of calendar year 2001.

Issued in Atlantic County, New Jersey on August 15, 2000.
Herman A. Rediess,
Director, Office of Aviation Research.

[FR Doc. 00-21639 Filed 8-23-00; 8:45 am]

BILLING CODE 4910-13-M